DEPARTMENT OF HEALTH AND HUMAN SERVICES

Centers for Medicare & Medicaid Services

[Document Identifier: CMS-10410]

Agency Information Collection Activities: Proposed Collection; 30-Day Emergency Extension Request

AGENCY: Centers for Medicare & Medicaid Services, HHS.

ACTION: Notice.

In compliance with the requirements of the Paperwork Reduction Act of 1995 (PRA), the Centers for Medicare and Medicaid Services (CMS) submitted a request to the Office of Management and Budget (OMB) for an emergency extension of the information collection request currently approved under OMB control number 0938-1147 (CMS-10410), entitled “Medicaid Program; Eligibility Changes under the Affordable Care Act of 2010.” In accordance with the implementing regulations of the PRA at 5 CFR 1320.13, CMS requested an emergency extension to enable the collection to remain active while CMS completes the pending PRA extension process and to prevent the public harm that would ensue in the event of a lapse of approval. No changes are being made to the reporting and recordkeeping requirements.

The information collection is currently in the midst of its required 60-day public comment period which ends on November 7, 2025 (September 8, 2025, 90 FR 43189). The public can submit comments via the instructions provided in the notice.

To ensure OMB approval of the currently approved information collection remains valid during the PRA extension process, CMS submitted a request to the OMB on September 25, 2025, for a short-term emergency extension to extend the expiration date from October 31, 2025, to November 30, 2025. The emergency extension is intended to avoid the potential for public harm by providing CMS with enough time to publish the required 30-day Federal Register notice at the end of the current 60-day comment period and submit the extension to OMB for their review and approval.

William N. Parham, III
Director, Division of Information Collections and Regulatory Impacts, Office of Strategic Operations and Regulatory Affairs.

[FR Doc. 2025-18826 Filed 9-26-25; 8:45 am]

BILLING CODE 4120-01-P